DEPARTMENT OF THE INTERIOR

U.S. Geological Survey

[USGS-GX.11.LC00.BM3FQ.00]

Agency Information Collection Activities: Comment Request for the North American Amphibian Monitoring Program (NAAMP)

AGENCY: U.S. Geological Survey (USGS), Interior.

ACTION: Notice of an extension of a currently approved information collection (1028-0078).

SUMMARY: We (the U.S. Geological Survey) will ask the Office of Management and Budget (OMB) to approve the information collection request (ICR) for the North American Amphibian Monitoring Program (NAAMP). As required by the Paperwork Reduction Act (PRA) of 1995, and as part of our continuing efforts to reduce paperwork and respondent burden, we invite the general public and other Federal agencies to take this opportunity to comment on this ICR. This ICR is scheduled to expire on July 31, 2011.

DATES: To ensure that we are able to consider your comments on this IC we must receive them on or before August 29, 2011.

ADDRESSES: Please submit written comments on this ICR to the OMB Office of Information and Regulatory Affairs, Attention: Desk Officer for the Department of the Interior via e-mail to oira_docket@omb.eop.gov or fax at 202-395-5806; and reference Information Collection 1028-0078 in the subject line. Please also submit a copy of your comments to the USGS, Information Collection Officer, U.S. Geological Survey, Mail Stop 807, 12201 Sunrise Valley Drive, Reston, VA 20192. Please reference Information Collection 1028-0078 in the subject line.

FOR FURTHER INFORMATION CONTACT: Linda Weir at 301-497-5932 or by mail at U.S. Geological Survey, Patuxent Wildlife Research Center, 12100 Beech Forest Road, Laurel, Maryland 20708-4038. To see a copy of the entire ICR submitted to OMB, go to http://www.reginfo.gov (Information Collection Review, Currently under Review).

SUPPLEMENTARY INFORMATION:

I. Abstract

This information collection pertains to volunteers who contribute their time to conduct frog call surveys at assigned survey routes that are part of the North American Amphibian Monitoring Program. Volunteers use an on-line data entry system to submit their data. This information is used by scientists and Federal, state, and local agencies to monitor amphibian populations and detect population trends. Responses are voluntary. Please go to: http://www.pwrc.usgs.gov/naamp for more information about the NAAMP.

II. Data

OMB Control Number: 1028-0078.

Title: North American Amphibian Monitoring Program (NAAMP).

Type of Request: Extension of a currently approved collection.

Affected Public: General public; individual households.

Respondent Obligation: Voluntary.

Frequency of Collection: 3 times per year.

Estimated Number of Annual Responses: 1,700.

Annual Burden Hours: 5,100 hours. We estimate an average of 3 hours per response. This includes driving time to and from the survey route locations; listening periods at each sampling station; and data entry.

Estimated Reporting and Recordkeeping “Non-Hour Cost” Burden: The estimated non-hour cost for this collection includes: A thermometer (a one-time cost per respondent) and mileage. The thermometer is needed to record air temperature during the survey. The cost of such thermometers is approximately $15. The total operational costs consist of a mileage estimate in accomplishing a survey, calculated by using the mileage reimbursement rate of $0.50 cents per mile (as used in travel reimbursement for Federal employees) times 15 miles (the approximate distance of a calling survey route), for a total of $7.50 per survey.

Public Disclosure Statement: The PRA (44 U.S.C. 3501, et seq.) provides that an agency may not conduct or sponsor a collection of information unless it displays a currently valid OMB control number.

III. Request for Comments

On March 14, 2011 we published a Federal Register notice (76 FR 13658) announcing that we would submit this ICR to OMB for approval and soliciting comments. The comment period closed on May 13, 2011. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Please note that the comments submitted in response to this notice are a matter of public record. Before including your address, phone number, e-mail address, or other personal identifying information in your comment, you should be aware that your entire comment, you should be aware that your entire comment, including your personal identifying information, may be made publicly available at any time. While you can ask OMB in your comment to withhold your personal identifying information from public review, we cannot guarantee that it will be done.

Dated: July 22, 2011.
Anne E. Kinsinger,
Associate Director for Ecosystems.

[FR Doc. 2011-19245 Filed 7-28-11; 8:45 am]

BILLING CODE 4311-AM-P